DEPARTMENT OF COMMERCE

International Trade Administration

[A-552-841]

Crystalline Silicon Photovoltaic Cells, Whether or Not Assembled Into Modules, From the Socialist Republic of Vietnam: Final Affirmative Determination of Sales at Less Than Fair Value and Final Affirmative Determination of Critical Circumstances, in Part

AGENCY: Enforcement and Compliance, International Trade Administration, Department of Commerce.

SUMMARY: The U.S. Department of Commerce (Commerce) determines that crystalline silicon photovoltaic cells, whether or not assembled into modules (solar cells), from the Socialist Republic of Vietnam (Vietnam) are being, or are likely to be, sold in the United States at less than fair value (LTFV). The period of investigation is October 1, 2023, through March 31, 2024.

DATES: Applicable April 25, 2025.

FOR FURTHER INFORMATION CONTACT: Laurel LaCivita or Deborah Cohen, AD/CVD Operations, Office III, Enforcement and Compliance, International Trade Administration, U.S. Department of Commerce, 1401 Constitution Avenue NW, Washington, DC 20230; telephone: (202) 482-4243 or (202) 482-4521, respectively.

SUPPLEMENTARY INFORMATION:

Background

On December 4, 2024, Commerce published the Preliminary Determination in the Federal Register and invited interested parties to comment.¹ On January 2, 2025, Commerce published the Amended Preliminary Determination.² A summary of the events that occurred since Commerce published the Preliminary Determination, may be found in the Issues and Decision Memorandum.³

¹ See Crystalline Silicon Photovoltaic Cells, Whether or Not Assembled Into Modules From the Socialist Republic of Vietnam: Preliminary Affirmative Determination of Sales at Less Than Fair Value, Preliminary Affirmative Determination of Critical Circumstances, in Part, and Postponement of Final Determination and Extension of Provisional Measures, 89 FR 96219 (December 4, 2024) (Preliminary Determination), and accompanying Preliminary Decision Memorandum (PDM); see also Crystalline Silicon Photovoltaic Cells, Whether or Not Assembled Into Modules, From the Socialist Republic of Vietnam: Amended Preliminary Determination of Less-Than-Fair-Value Investigation, 90 FR 85 (January 2, 2025).

² See Crystalline Silicon Photovoltaic Cells, Whether or Not Assembled into Modules, from the Socialist Republic of Vietnam: Amended Preliminary Determination of Less-Than-Fair-Value Investigation, 90 FR 85 (January 2, 2025), and accompanying memorandum, “Ministerial Error Allegations Regarding the Preliminary Determination,” dated December 23, 2024.

³ See Memorandum, “Issues and Decision Memorandum for the Final Affirmative Determination in the Less-Than-Fair-Value Investigation of Crystalline Silicon Photovoltaic Cells, Whether or Not Assembled Into Modules, from the Socialist Republic of Vietnam and Final Affirmative Determination of Critical Circumstances, in Part,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The products covered by this investigation are solar cells from Vietnam. For a complete description of the scope of this investigation, see Appendix I.

Scope Comments

During the course of this investigation, Commerce received scope comments from parties. Commerce issued Preliminary Scope Decision Memoranda to address these comments and set aside a period of time for parties to address scope issues in scope-specific case and rebuttal briefs.⁴ We received comments from interested parties on the Preliminary Scope Decision Memoranda, which we address in the Final Scope Decision Memorandum.⁵ We made no changes to the scope of the investigation from the scope published in the Preliminary Determination, as noted in Appendix I to this notice.

⁴ See Memorandum, “Memoranda, “Crystalline Silicon Photovoltaic Cells, Whether or Not Assembled into Modules, from Cambodia, Malaysia, and Thailand: Preliminary Scope Decision Memorandum,” dated November 27, 2024, and “Crystalline Silicon Photovoltaic Cells, Whether or Not Assembled into Modules from Vietnam,” dated November 27, 2024 (collectively, Preliminary Scope Decision Memoranda).

⁵ See Memorandum, “Memorandum, “Crystalline Silicon Photovoltaic Cells, Whether or Not Assembled into Modules, from Cambodia, Malaysia, Thailand, and the Socialist Republic of Vietnam: Final Scope Decision Memorandum,” dated concurrently with this notice (Final Scope Decision Memorandum).

Verification

As provided in section 782(i) of the Tariff Act of 1930, as amended (the Act), Commerce conducted verification of the information relied upon in making its final determination in this investigation. Specifically, between November 12 and 24, 2024, Commerce conducted on-site verifications of the sales and factors of production information submitted by JA Solar Vietnam Co. Ltd (JA Solar) and Jinko Solar (Vietnam) Industries Company Limited (Jinko).⁶ We used standard verification procedures, including an examination of relevant accounting records and original source documents provided by JA Solar and Jinko.

⁶ See Memoranda, “Verification of the Sales and Factors of Production Questionnaire Responses of JA Solar Vietnam Co. Ltd (JAVN) and JA Solar USA, Inc. (JA Solar US) (collectively, JA Solar),” dated February 24, 2025, and “Verification of Jinko Solar (Vietnam) Industries Co. Ltd.,” dated February 24, 2025.

Analysis of Comments Received

All issues raised in the case and rebuttal briefs submitted by interested parties in this investigation are addressed in the Issues and Decision Memorandum. A list of the issues addressed in the Issues and Decision Memorandum is attached to this notice as Appendix II.

Changes Since the Preliminary Determination

Based on our review and analysis of the information received during verification and comments received from interested parties for this final determination, we made certain changes to the estimated weighted-average dumping margins for JA Solar and Jinko. For a discussion of these changes, see the Issues and Decision Memorandum.

Final Affirmative Determination of Critical Circumstances, in Part

In accordance with section 735(a)(3)(B) of the Act, and 19 CFR 351.206(h), Commerce finds for the final determination that critical circumstances do not exist with respect to imports of solar cells for the mandatory respondents and the non-selected companies eligible for a separate rate.⁷ We continue to find that critical circumstances exist with respect to the Vietnam-wide entity pursuant to section 776(b) of the Act.⁸ For a full description of the methodology and the results of Commerce's critical circumstances analysis, see the Issues and Decision Memorandum.

⁷ See Issues and Decision Memorandum at Comment 29, “Critical Circumstances.”

⁸ See Preliminary Determination, 89 FR 96219.

Use of Adverse Facts Available (AFA)

As discussed in the Preliminary Determination, Commerce assigned an estimated weighted-average dumping margin on the basis of AFA, pursuant to sections 776(a) and (b) of the Act, to the Vietnam-wide entity (including, but not limited to, eleven companies which did not rebut the presumption of government control).⁹ No party commented on our findings with respect to the Vietnam-wide entity and use of the highest corroborated dumping margin alleged in the petition as the appropriate rate assigned to the Vietnam-wide entity. Therefore, Commerce continues to find, pursuant to sections 776(a) and (b) of the Act, that the use of facts otherwise available, with adverse inferences, is warranted in determining the dumping rate for the Vietnam-wide entity, and we continue to assigned the highest dumping margin alleged in the petition, i.e., 271.28 percent, as the applicable AFA rate, which continues to be corroborated by the highest transaction-specific margins calculated for the mandatory respondents.¹⁰

⁹ See Preliminary Determination PDM at 15-16.

¹⁰ See Memorandum, “Jinko's Final Analysis Memorandum” dated concurrently with this memorandum (Jinko's Final Analysis Memo) at Attachment 3 (SAS Output) and see also, memorandum, “Final Analysis Memorandum for JA Solar Vietnam Co. Ltd (JAVN) and JA Solar USA, Inc. (JA Solar US) (collectively, JA Solar),” dated concurrently with this memorandum at Attachment 3, which indicate the highest transaction-specific margins calculated for each respondent.

Separate Rates

No interested party commented on Commerce's preliminary separate-rate determinations,¹¹ as such, we have no basis to reconsider those determinations. Accordingly, we continue to find that JA Solar, Jinko, and certain non-individually examined companies that are listed in the “Final Determination” rate table below, are eligible for a separate rate.

¹¹ Id. at 12-16.

Combination Rates

Consistent with the Preliminary Determination, and Policy Bulletin 05.1,¹² Commerce calculated combination rates for the respondents that are eligible for a separate rate.

¹² See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

Final Determination

Commerce determines that the following estimated weighted-average dumping margins exist for the period October 1, 2023, through March 31, 2024:

Producer | Exporter | Estimated weighted-average dumping margin (percent) | Cash deposit rate (adjusted for subsidy offsets) (percent)
JA Solar Vietnam Co. Ltd./JA Solar PV | JA Solar Vietnam Co. Ltd | 58.07 | 52.54
Jinko Solar (Vietnam) Industries Company Limited | Jinko Solar (Vietnam) Industries Company Limited | 125.91 | 120.38
Blue Moon Vina Co | Blue Moon Vina Co | 82.65 | 77.12
Boviet Solar Technology Co., Ltd | Boviet Solar Technology Co., Ltd | 82.65 | 77.12
Elite Solar Technology (Vietnam) Company Limited | Elite SNG | 82.65 | 77.12
Letsolar Vietnam Company Limited | Letsolar Vietnam Company Limited | 82.65 | 77.12
Mecen Solar Vina Co., Ltd | Mecen Solar Vina Co., Ltd | 82.65 | 77.12
Nexuns Vietnam Company Limited | Nexuns Vietnam Company Limited | 82.65 | 77.12
Trina Solar Energy Development Company Ltd | Trina Solar Energy Development Company Ltd | 82.65 | 77.12
Vietnergy Co., Ltd. and Tainergy Tech Co., Ltd | Vietnergy Co., Ltd. and Tainergy Tech Co., Ltd | 82.65 | 77.12
Vietnam Sunergy Joint Stock Company (f.k.a. Vietnam Sunergy Company Limited) | Vietnam Sunergy Joint Stock Company (f.k.a. Vietnam Sunergy Company Limited) | 82.65 | 77.12
Vietnam-Wide Entity |  | * 271.28 | 271.28
* This rate is based on facts available with adverse inferences.

Disclosure

Commerce intends to disclose its calculations and analysis performed to interested parties in this final determination within five days of any public announcement, or if there is no public announcement, within five days of the date of the publication of this notice in the Federal Register, in accordance with 19 CFR 351.224(b).

Continuation of Suspension of Liquidation

In accordance with section 735(c)(4) of the Act, because Commerce continues to find that critical circumstances exist for the Vietnam-wide entity, we will instruct U.S. Customs and Border Protection (CBP) to continue to suspend liquidation of entries of subject merchandise, as described in Appendix I of this notice, which were entered, or withdrawn from warehouse for consumption, on or after September 5, 2024, which is 90 days prior to the date of publication of the affirmative Preliminary Determination in the Federal Register.

For the mandatory respondents, JA Solar and Jinko, we will instruct CBP to continue to suspend liquidation of entries of subject merchandise, as described in Appendix I of this notice, which are entered, or withdrawn from warehouse for consumption, on or after December 4, 2024, the date of publication in the Federal Register of the Preliminary Determination.

For the separate rate companies, because Commerce has made a negative final determination with regard to critical circumstances, Commerce will instruct CBP to continue to suspend liquidation of all appropriate entries which were entered, or withdrawn from warehouse, for consumption on or after December 4, 2024, the date of publication in the Federal Register of the Preliminary Determination and, in accordance with section 735(c)(3) of the Act, Commerce will instruct CBP to terminate any retroactive suspension of liquidation required under section 733(e)(2) of the Act, release any bond or other security, and refund any cash deposit required, under section 733(d)(1)(B) of the Act, with respect to entries of subject merchandise the liquidation of which was suspended retroactively under section 733(e)(2) of the Act before December 4, 2024.

Pursuant to section 735(c)(1)(B)(ii) of the Act and 19 CFR 351.210(d), upon the publication of this notice, Commerce will instruct CBP to require a cash deposit for estimated antidumping duties for appropriate entries. Specifically, Commerce will instruct CBP to require cash deposits of estimated antidumping duties for all appropriate entries as follows: (1) for the producer/exporter combinations listed in the table above, the applicable cash deposit rate is listed in the table for that combination; (2) for all combinations of Vietnamese producers/exporters of the subject merchandise that have not established eligibility for a separate rate, the cash deposit rate will be equal to the cash deposit rate listed for the Vietnam-wide entity in the table above; and (3) for all third-country exporters of subject merchandise that are not listed in the table above, the cash deposit rate is the cash deposit rate applicable to the Vietnamese producer/exporter combination or the Vietnam-wide entity that supplied that third-country exporter. These suspension of liquidation instructions will remain in effect until further notice.

Commerce normally adjusts cash deposits for estimated antidumping duties by the amount of export subsidies countervailed in a companion CVD investigation, when CVD provisional measures are in effect. Accordingly, because Commerce made an affirmative final determination for countervailable export subsidies, Commerce has offset the estimated weighted-average dumping margin by the appropriate export subsidy rate. Commerce has continued to adjust the cash deposit rate for export subsidies in the companion CVD investigation by the appropriate export subsidy rate as indicated in the above chart. However, suspension of liquidation of provisional measures in the companion CVD case has been discontinued; ¹³ therefore, we are not instructing CBP to collect cash deposits based upon the adjusted estimated weighted-average dumping margin for those export subsidies at this time.

¹³ See Crystalline Silicon Photovoltaic Cells, Whether or Not Assembled Into Modules, From the Socialist Republic of Vietnam: Preliminary Affirmative Countervailing Duty Determination, Preliminary Affirmative Critical Circumstances Determination, in Part, and Alignment of Final Determination With Final Antidumping Duty Determination, 89 FR 80867 (October 4, 2024); see also section 703(d) of the Act, which states that the provisional measures may not be in effect for more than four months, which in the companion CVD case is 120 days after the publication of the preliminary determination, or January 31, 2025 (i.e., last day provisional measures are in effect).

U.S. International Trade Commission (ITC)

In accordance with section 735(d) of the Act, we will notify the ITC of this final affirmative determination of sales at LTFV. Because the final determination in this investigation is affirmative, in accordance with section 735(b)(2) of the Act, the ITC will make its final determination as to whether the domestic industry in the United States is materially injured, or threatened with material injury, by reason of imports of solar cells no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section above.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: April 18, 2025.
Christopher Abbott,
Deputy Assistant Secretary for Policy and Negotiations, performing the non-exclusive functions and duties of the Assistant Secretary for Enforcement and Compliance.

Appendix I

Scope of the Investigation

The merchandise covered by this investigation is crystalline silicon photovoltaic cells, and modules, laminates, and panels, consisting of crystalline silicon photovoltaic cells, whether or not partially or fully assembled into other products, including, but not limited to, modules, laminates, panels and building integrated materials.

This investigation covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the investigation.

Excluded from the scope of the investigation are thin film photovoltaic products produced from amorphous silicon (a-Si), cadmium telluride (CdTe), or copper indium gallium selenide (CIGS).

Also excluded from the scope of the investigation are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the investigation are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the investigation are:

(1) Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

(2) Off grid CSPV panels without a glass cover, with the following characteristics: (A) a total power output of 100 watts or less per panel; (B) a maximum surface area of 8,000 cm² per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the investigation: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a two port rectangular connector.

Additionally excluded from the scope of this investigation are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of this investigation are off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm²) per panel; (C) include a keep-out area of approximately 1,200 cm² around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the twoport connector; and (I) include exposed positive and negative terminals at opposite ends of the panel, not enclosed in a junction box.

Further excluded from the scope of the investigation are:

(1) Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

(2) Off-grid small portable crystalline silicon photovoltaic panels, with or without a glass cover, with the following characteristics: (A) a total power output of 200 watts or less per panel, (B) a maximum surface area of 16,000 cm² per panel, (C) no built-in inverter, (D) an integrated handle or a handle attached to the package for ease of carry, (E) one or more integrated kickstands for easy installation or angle adjustment, and (F) a wire either permanently connected or attached to the package terminates in waterproof connector with a cylindrical positive electrode and a rectangular negative electrode with the positive and negative electrodes having an interlocking structure.

Also excluded from the scope of the investigation are:

(1) Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

(2) Small off-grid panels with glass cover, with the following characteristics: (A) surface area from 3,450 mm² to 33,782 mm², (B) with one black wire and one red wire (each of type 22AWG or 28 AWG not more than 350 mm in length when measured from panel extrusion), (C) not exceeding 10 volts, (D) not exceeding 1.1 amps, (E) not exceeding 6 watts, and (F) for the purposes of this exclusion, no panel shall contain an internal battery or external computer peripheral ports.

Additionally excluded from the scope of the investigation are:

(1) Off grid rigid CSPV panels with a glass cover, with the following characteristics: (A) a total power output of 175 watts or less per panel, (B) a maximum surface area of 9,000 cm² per panel, (C) do not include a built-in inverter, (D) must include a permanently connected wire that terminates in waterproof connector with a cylindrical positive electrode and a rectangular negative electrode with the positive and negative electrodes having an interlocking structure; (E) must include visible parallel grid collector metallic wire lines every 1-4 millimeters across each solar cell, and (F) must be in individual retail packaging (for purposes of this provision, retail packaging typically includes graphics, the product name, its description and/or features); and

(2) Off grid CSPV panels without a glass cover, with the following characteristics, (A) a total power output of 220 watts or less per panel, (B) a maximum surface area of 16,000 cm² per panel, (C) do not include a built-in inverter, (D) must include visible parallel grid collector metallic wire lines every 1-4 millimeters across each solar cell, and (E) each panel is encased in a laminated material without stitching.

Also excluded from the scope of this investigation are off-grid CSPV panels in rigid form, with or without a glass cover, permanently attached to an aluminum extrusion that is an integral component of an automation device that controls natural light, whether or not assembled into a fully completed automation device that controls natural light, with the following characteristics: 1. a total power output of 20 watts or less per panel; 2. a maximum surface area of 1,000 cm² per panel; 3. does not include a built-in inverter for powering third party devices.

Additionally excluded from the scope of the investigation are off-grid greenhouse shade tracking systems with between 3 and 30 flexible CSPV panels, each permanently affixed to an outer aluminum frame, with (A) no glass cover, (B) no back sheet, (C) no built-in inverter, (D) power output of 220 watts or less per panel, (E) surface area of 10,000 cm squared or less per panel, (F) two clear plastic trusses per panel permanently attached running lengthwise on the same side as the junction boxes, (G) visible parallel grid collector metallic wire lines every 1-4 mm per each cell on same side as junction box, (H) two rectangular plastic junction boxes per panel with at least 16 diodes per panel, and (I) encased in an aluminum frame and laminated without stitching.

Modules, laminates, and panels produced in a third-country from cells produced in a subject country are covered by the investigation; however, modules, laminates, and panels produced in a subject country from cells produced in a third-country are not covered by the investigation.

Also excluded from the scope of this investigation are all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77 FR 73017 (December 7, 2012).

Merchandise covered by the investigation is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the investigation is dispositive.

Appendix II

List of Topics Discussed in the Issues and Decision Memorandum

I. Summary

II. Background

III. Final Affirmative Determination of Critical Circumstances, In Part

IV. Changes Since the Preliminary Determination

V. Discussion of the Issues

Comment 1: Surrogate Value (SV) for Solar Glass Inputs

Comment 2: SV for Aluminum Frame Inputs

Comment 3: SV for Silver Paste Inputs

Comment 4: SV for 1500V Junction Box Inputs

Comment 5: SV for Glue and/or Silicon Sealant Inputs

Comment 6: SV for Solder and Welding Wire Inputs

Comment 7: SV for Jinko's Polysilicon and Wafers Inputs

Comment 8: SV for Jinko's Ethylenediaminetetraacetic Acid Inputs

Comment 9: SV for Jinko's Dust Free Cloth Inputs

Comment 10: SV for Jinko's Trimethyl Aluminum Inputs

Comment 11: SV for Jinko's Label Inputs

Comment 12: SV for Labor Inputs

Comment 13: SV for Ocean Freight

Comment 14: SV for Marine Insurance

Comment 15: SV for Truck Freight

Comment 16: SV for Brokerage and Handling (B&H) for JA Solar

Comment 17: SV for Domestic Inland Insurance for Jinko

Comment 18: Valuation of the Market-Economy (ME) Purchase Price for JA Solar's Purchases of Polysilicon

Comment 19: Polysilicon Byproduct and Scrap Offsets for JA Solar

Comment 20: By-Product Offsets for Jinko

Comment 21: Polysilicon as a Byproduct and Input for Jinko

Comment 22: Selection of Surrogate Financial Statements

Comment 23: Deduction of Domestic Warehousing from U.S. Price for JA Solar

Comment 24: Deduction of Rebate Expense from U.S. Price for JA Solar

Comment 25: Minor Corrections to the JA Solar's Reported Control Numbers (CONNUMs)

Comment 26: Minor Corrections to the Response Presented at Verification

Comment 27: Correct Application of the Cohen's d Test

Comment 28: Treatment of Boviet as a Voluntary Respondent

Comment 29: Critical Circumstances Determination and Methodology for Separate Rate Respondents

VI. Recommendation

[FR Doc. 2025-07139 Filed 4-24-25; 8:45 am]

BILLING CODE 3510-DS-P